DEPARTMENT OF LABOR

Employment and Training Administration

[TA-W-57,802; TA-W-57,802A; TA-W-57,802B; TA-W-57,802C; TA-W-57,802D]

Sara Lee Branded Apparel; Division Office, Formerly Known as National Textiles, Currently Known as Hanesbrands, Inc., Winston-Salem, NC; Including Employees of Sara Lee Branded Apparel, Division Office, Formerly Known as National Textiles, Currently Known as Hanesbrands, Inc., Winston-Salem, NC Located in Bristol, CT; Norwalk, CT; Madison, CT; New Canaan, CT; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on September 28, 2005, applicable to workers of Sara Lee Branded Apparel, Division Office, Winston-Salem, North Carolina. The notice was published in the Federal Register on October 31, 2005 (70 FR 62347).

At the request of a company official, the Department reviewed the certification for workers of the subject firm. The workers at the Division Office, Winston-Salem, North Carolina location were engaged in activities related to the production of underwear (shorts and T-shirts). New information shows that Sara Lee Branded Apparel was formerly known as National Textiles and is currently known as Hanesbrands, Inc. Workers separated from employment at the subject firm had their wages reported under a separated unemployment (UI) tax account for Sara Lee Branded Apparel, Division Office, formerly known as National Textiles, currently known as Hanesbrands, Inc.

Accordingly, the Department is amending the certification to correctly identify the subject firm name in its entirety.

The intent of the Department's certification is to include all workers of Sara Lee Branded Apparel, Division Office, Winston-Salem, North Carolina who were adversely affected by increased imports.

The amended notice applicable to TA-W-57,802 is hereby issued as follows:

All workers of Sara Lee Branded Apparel, Division Office, formerly known as National Textiles, currently known as Hanesbrands, Inc., Winston-Salem, North Carolina (TA-W-57,802), and including employees of Sara Lee Branded Apparel, Division Office, formerly known as National Textiles, currently known as Hanesbrands, Winston-Salem, North Carolina, located in Bristol, Connecticut (TA-W-57,802A), Norwalk, Connecticut (TA-W-57,802B), Madison, Connecticut (TA-W-57,802C) and New Canaan, Connecticut (TA-W-57,802D), who became totally or partially separated from employment on or after July 29, 2004, through September 28, 2007, are eligible to apply for adjustment assistance under Section 223 of the Trade Act of 1974.

I further determine that all workers of Sara Lee Branded Apparel, Division of the Sara Lee Corporation, Winston-Salem, North Carolina, are denied eligibility to apply for alternative trade adjustment assistance under Section 246 of the Trade Act of 1974.

Signed at Washington, DC this 2nd day of April 2007.
Elliott S. Kushner,
Certifying Officer, Division of Trade Adjustment Assistance.

[FR Doc. E7-6659 Filed 4-9-07; 8:45 am]

BILLING CODE 4510-FN-P